ENVIRONMENTAL PROTECTION AGENCY

[FRL-7779-7]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1249.07; Recordkeeping Requirements for Certified Applications Using 1080 Collars for Livestock Protection; was approved 05/14/2004; OMB Number 2070-0074; expires 05/31/2007.

EPA ICR No. 1204.09; Submission of Unreasonable Adverse Effects Information Under FIFRA Section 6 (a) (2); was approved 05/14/2004; OMB Number 2070-0039; expires 05/31/2007.

EPA ICR No. 0276.12; Application for Experimental Use Permit (EUP) to Ship and Use a Pesticide for Experimental Purposes; in 40 CFR part 172; was approved 05/13/2004; OMB Number 2070-0040; expires 05/31/2007.

EPA ICR No. 0116.07; Emission Control System Performance Warranty Regulations and Voluntary Aftermarket Part Certification Program; in 40 CFR part 85, subpart V; was approved 05/07/2004; OMB Number 2060-0060; expires 05/31/2007.

EPA ICR No. 1857.03; Emission Reporting Requirements for Ozone SIP Revisions Relating to Statewide Budget for NOX Emissions to Reduce the Regional Transport of Ozone; in 40 CFR 51.121 and 40 CFR 51.122; was approved 05/10/2004; OMB Number 2060-0445; expires 05/31/2007.

EPA ICR No. 1869.03; NESHAP for the Manufacture of Amino/Phenolic Resins; in 40 CFR part 63, subpart OOO; was approved 05/17/2004; OMB Number 2060-0434; expires 05/31/2007.

EPA ICR No. 1790.03; NESHAP for Phosphoric Acid Manufacturing and Phosphate Fertilizer Production Plants; in 40 CFR part 63, subparts AA and BB); was approved 5/18/2004; OMB Number 2060-0361; expires 05/31/2007.

EPA ICR No. 1678.05; NESAP for Magnetic Tape Manufacturing Operations; in 40 CFR part 63, subpart EE); was approved 05/17/2004; OMB Number 2060-0326; expires 05/31/2007.

EPA ICR No. 2149.01; Detroit Exposure and Aerosol Research Study (DEARS); was approved 06/01/2004; OMB Number 2080-00071; expires 06/20/2007.

EPA ICR No. 1717.04; NESHAP for Off-Site Waste and Recovery Operations; in 40 CFR part 63, subpart DD; was approved 05/21/2004; OMB Number 2060-0313; expires 05/31/2007.

EPA ICR No. 1783.03; NESHAP for Flexible Polyurethane Foam Production; in 40 CFR part 63, subpart III; was approved 05/21/2004; OMB Number 2060-0357; expires 05/13/2007.

EPA ICR No. 1214.06; Pesticide Product Registration Maintenance Fee; was approved 05/19/2004; OMB Number 2070-0100; expires 05/31/2007.

EPA ICR No. 1135.08; NSPS for Magnetic Tape Coating Facilities; in 40 CFR part 60, subpart SSS; was approved 06/25/2004; OMB Number 2060-0171; expires 06/20/2007.

Short Term Extensions

EPA ICR No. 1953.02; Information Collection Request for Best Management Practices Alternatives, Effluent Limitations Guidelines and Standards, Oil and Gas Extraction Point Source Category; in 40 CFR part 435; OMB Number 2040-0230; in 04/26/2004; OMB extended the expiration to 07/13/204.

Withdrawn

EPA ICR No. 2126.01; Longitudinal Study of Your Children's Exposures in their Homes to Selected Pesticides, Phthalates, Brominated Flame Retardants, and Perfluorinated Chemicals (CHEERS); was withdrawn by OMB 06/0/2004.

Comment Filed

EPA ICR No. 1189.13; Identification Listing and Rulemaking Petitions (Proposed Rule for Organic Dyes and/or Pigments Production Wastes); OMB Number 2050-0053; OMB filed comment on 06/25/2004.

Dated: June 21, 2004.
Oscar Morales,
Director, Collection Strategies Division.

[FR Doc. 04-14703 Filed 6-28-04; 8:45 am]

BILLING CODE 6560-50-P